DEPARTMENT OF JUSTICE

Antitrust Division

Notice Pursuant to the National Cooperative Research and Production Act of 1993—GlobalPlatform, Inc.

Notice is hereby given that, on September 20, 2004, pursuant to section 6(a) of the National Cooperative Research and Production Act of 1993, 15 U.S.C. 4301 et seq. (“the Act”), GlobalPlatform, Inc. (“GlobalPlatform”) has filed written notifications simultaneously with the Attorney General and the Federal Trade Commission disclosing (1) the name and principal place of business of the standards development organization and (2) the nature and scope of its standards development activities. The notifications were filed for the purpose of invoking the Act's provisions limiting the recover of antitrust plaintiffs to actual damages under specified circumstances.

Pursuant to section 6(b) of the Act, the name and principal place of business of the standards development organization is: GlobalPlatform, Inc., Foster City, CA. The nature and scope of GlobalPlatform's standards development activities are: (1) to Define, adopt, and evolve appropriate standards and specifications, including but not limited to standards and specifications for smart cards, systems and devices; (2) to facilitate and promote the development of systems and software applications for multiple application smart cards infrastructure; (3) to develop other conventions needed to facilitate cross-industry application loading, such as card management, security, key management and personalization; and (4) to complement and enhance other smart card specifications, standards, and industry groups as appropriate.

Dorothy B. Fountain,
Deputy Director of Operations, Antitrust Division.

[FR Doc. 04-25849 Filed 11-19-04; 8:45 am]

BILLING CODE 4410-11-M